DEPARTMENT OF HOUSING AND URBAN DEVELOPMENT

[Docket No. FR-4561-N-04]

Application and Re-certification Packages for Approval of Nonprofit Organizations in FHA Activities

AGENCY: Officer of the Assistant Secretary for Housing, HUD.

ACTION: Notice.

SUMMARY: The proposed information collection requirement described below has been submitted to the Office of Management and Budget (OMB) for emergency review and approval, as required by the Paperwork Reduction Act. The Department is soliciting public comments on the subject proposal.

DATES: Comments Due Date: March 1, 2000.

ADDRESSES: Interested persons are invited to submit comments regarding this proposal. Comments should refer to the proposal by name or OMB approval number should be sent to: Joseph F. Lackey, Jr., HUD Desk Officer, Office of Management and Budget, New Executive Office Building, Washington, DC 20410 (202) 395-7316.

FOR FURTHER INFORMATION CONTACT: Wayne Eddins, Reports Management Officer, Department of Housing and Urban Development, 451 7th Street, SW, Washington, DC 20410; e-mail Wayne _Eddins@HUD.gov; telephone (202) 708-2374. This is not a toll-free number. Copies of the proposed forms and other available documents submitted to OMB may be obtained from Mr. Eddins.

SUPPLEMENTARY INFORMATION: This Notice informs the public that the Department of Housing and Urban Development (HUD) has submitted to OMB, for emergency processing, an information collection package with respect to a application and re-certification packages for nonprofit organizations to participate in FHA activities. This emergency processing is essential to the Department's mission to expand homeownership opportunities and strengthen neighborhoods and communities by standardizing throughout the country, the information nonprofit organizations must submit to be considered acceptable to participate as a mortgagor in HUD's single family housing programs. Nonprofit organizations are viewed as a significant partner in rehabilitating and reselling residential housing to low and moderate income families, particularly in the nation's urban centers. The participation of nonprofit housing providers is critical to the success of the Cities 2000 Agenda which was announced by Secretary Cuomo on June 12, 1999 to boost homeownership in America's cities. HUD is requesting that OMB approve this information collection by February 21, 2000.

This Notice is soliciting comments from members of the public and affected agencies concerning the proposed collection of information to (1) Evaluation whether the proposed collection of information is necessary for the proper performance of the functions of the agency, including whether the information will have practical utility; (2) Evaluate the accuracy of the agency's estimate of the burden of the proposed collection of information; (3) Enhance the quality, utility, and clarity of the information to be collected, and (4) Minimize the burden of the collection of information on those who are to respond, including through the use of appropriate automated collection, techniques or other forms of information technology; e.g., permitting electronic submission of responses.

This Notice also lists the following information:

Title of Proposed: Application and Re-certification Packages for Approval of Nonprofit Organizations for FHA Activities; Notice.

OMB Control Number, if applicable: 2502-XXXX.

Agency Form Number, if applicable: None.

Members of affected public: Nonprofit organizations wishing to participate in FHA activities.

Description of the Need for the Information and its Proposed use: The National Housing Act permits nonprofit organizations to act as mortgagors, to use FHA insured mortgages to finance the purchase and rehabilitation of housing for subsequent resale. Approved nonprofits may also purchase HUD's Real Estate Owned Properties at a discount, and provide downpayment assistance to homebuyers in the form of secondary financing. It is vital that the Department periodically and uniformly assess the management and financial ability of participating nonprofit agencies to ensure they are not overextending their capabilities and increasing HUD's risk of loss as a mortgage insurance provider.

Estimation of the total numbers of hours needed to prepare the information collection including number of respondents, frequency of response, and hours of response: The estimated number of respondents are estimated to be 2,500, an average of 81,000 annual burden hours are estimated, and the frequency of responses is estimated to be once every two years.

Status of the proposed information collection: Pending OMB approval.

Authority: The Paperwork Reduction Act of 1995, 44 U.S.C. 35, as amended.

Dated: February 17, 2000.
Wayne Eddins,
Department Reports Management Officer, Office of the Chief Information Officer.

[FR Doc. 00-4315 Filed 2-23-00; 8:45 am]

BILLING CODE 4210-27-M